DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2004-2006 Company Organization Survey.

Form Number(s): NC-99001, NC-99007.

Agency Approval Number: 0607-0444.

Type of Request: Revision of a currently approved collection.

Burden: 135,917 hours.

Number of Respondents: 65,000.

Avg. Hours Per Response: NC-99001—2 hours and 26 minutes; NC-99007—12 minutes.

Needs and Uses: The Census Bureau is requesting a revision of the currently approved Company Organization Survey (COS) data collection for the survey years 2004-2006. In addition to mailing form NC-99001 to approximately 55,000 multi-establishment companies, we will mail form NC-99007 to approximately 10,000 single-location companies asking for their establishment breakouts.

COS inquiries to each of the 55,000 multi-establishment enterprises will include questions on ownership or control by a domestic parent, ownership or control by a foreign parent, and ownership of foreign affiliates. Additional COS inquiries will apply to approximately 1.2 million establishments operated by these 55,000 enterprises. These additional inquiries will list an inventory of establishments and request updates to the inventory, including additions, deletions, and changes to Federal Employer Identification number, name and address, and industrial classification. Further, the additional inquiries will collect the following basic operating data for each listed establishment: End-of-year operating status, mid-March employment, first quarter payroll, and annual payroll.

In addition to the 55,000 multi-establishment enterprises, the COS will include up to 10,000 single-location business entities that may have added some locations.

The information collected by the COS is used to maintain and update the BR. The BR serves two fundamental purposes:

First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, measures of size and economic activity, ownership characteristics, and contact information (for example, name and address).

Second, it provides establishment data that serve as the basis for the annual County Business Patterns (CBP) statistical series. The CBP reports present data on number of establishments, first quarter payroll, annual payroll, and mid-March employment summarized by industry and employment size class for the United States, the District of Columbia, Puerto Rico, counties, and county-equivalents. No other annual or more frequent series of industry statistics provides comparable detail, particularly for small geographic areas.

Affected Public: Business or other for-profit; Not-for-profit institutions; Farms; State, Local or Tribal Government.

Frequency: Annually.

Respondent's Obligation: Mandatory.

Legal Authority: Title 13 U.S.C., Sections 182, 195, 224, and 225.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: October 26, 2004.
Madeleine Clayton,
Management Analyst, Office of the Chief Information Officer.

[FR Doc. 04-24293 Filed 10-29-04; 8:45 am]

BILLING CODE 3510-07-P